DEPARTMENT OF TRANSPORTATION

Federal Aviation Administration

14 CFR Part 39

[Docket No. 2000-NM-247-AD]

RIN 2120-AA64

Airworthiness Directives; Airbus Model A300 B2 and B4 Series Airplanes

AGENCY: Federal Aviation Administration, DOT.

ACTION: Notice of proposed rulemaking (NPRM).

SUMMARY: This document proposes the adoption of a new airworthiness directive (AD) that is applicable to all Airbus Model A300 B2 and B4 series airplanes. This proposal would require identifying the types and areas of repairs on the airplane between frame 10 and frame 80, and follow-on actions for certain repairs. This action is necessary to detect and correct fatigue cracking of certain repairs of the fuselage between frame 10 and frame 80, which could result in reduced structural integrity of the airplane. This action is intended to address the identified unsafe condition.

DATES: Comments must be received by September 27, 2001.

ADDRESSES: Submit comments in triplicate to the Federal Aviation Administration (FAA), Transport Airplane Directorate, ANM-114, Attention: Rules Docket No. 2000-NM-247-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-247-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-247-AD.” The postcard will be date stamped and returned to the commenter.

Availability of NPRMs

Any person may obtain a copy of this NPRM by submitting a request to the FAA, Transport Airplane Directorate, ANM-114, Attention: Rules Docket 2000-NM-247-AD, 1601 Lind Avenue, SW., Renton, Washington 98055-4056.

Discussion

The Direction Générale de l'Aviation Civile (DGAC), which is the airworthiness authority for France, notified the FAA that an unsafe condition may exist on all Airbus Model A300 B2 and B4 series airplanes. The DGAC advises that certain repairs and areas of repairs of the skin between frame 10 and frame 80 require inspection. These repairs, which had been done in accordance with a version of Structural Repair Manual (SRM) 53-10-10 earlier than Revision 55, may not meet the specifications of Revisions 55 and subsequent of that SRM. An inspection program has been developed in order to meet the structural fatigue and damage tolerance requirements of Amendment 45 of part 25 of the Federal Aviation Regulations.

Fatigue cracking of certain repairs of the fuselage between frame 10 and frame 80, if not detected and corrected, could result in reduced structural integrity of the airplane.

Explanation of Relevant Service Information

Airbus has issued Service Bulletin A300-53-0313, Revision 01, dated April 27, 1999. The service bulletin describes procedures for identifying the types and areas of repairs on the airplane between frame 10 and frame 80, and follow-on actions for certain repairs. The follow-on actions include repetitive inspections of specified areas to detect cracking, or replacement of the repair, if necessary. Such replacement would eliminate the need for the repetitive inspections. These actions are intended to adequately address the unsafe condition. The DGAC classified this service bulletin as mandatory and issued French airworthiness directive 2000-261-312(B), dated June 28, 2000, to ensure the continued airworthiness of these airplanes in France.

FAA's Conclusions

These airplane models are manufactured in France and are type-certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between the Proposed AD and the Service Bulletin

Operators should note that, unlike the procedures described in Airbus Service Bulletin A300-53-0313, this proposed AD would not permit further flight if cracks are detected in specific areas identified in the service bulletin. The FAA has determined that, because of the safety implications and consequences associated with such cracking, any area specified in the service bulletin that is found to be cracked must be repaired prior to further flight.

Operators also should note that, although the service bulletin specifies that the manufacturer may be contacted for disposition of certain repair conditions, this proposal would require the repair of those conditions to be accomplished in accordance with a method approved by either the FAA, or the DGAC (or its delegated agent). In light of the type of repair that would be required to address the identified unsafe condition, and in consonance with existing bilateral airworthiness agreements, the FAA has determined that, for this proposed AD, a repair approved by either the FAA or the DGAC would be acceptable for compliance with this proposed AD.

Explanation of Compliance Times

On April 19, 2000, the FAA issued amendments 91-264, 121-275, 125-33, and 129-28, which add new sections 91.410, 121.370, 125.248, and 129.32 (“Repair Assessment for Pressurized Fuselages”) to 14 CFR part 25 of the Federal Aviation Regulations. The final rule, which was published in the Federal Register on April 25, 2000 (65 FR 24108), requires operators of certain transport category airplanes to incorporate repair assessment guidelines for the fuselage pressure boundary into their FAA-approved maintenance or inspection program.

The final rule specifies that certain airplanes cannot be operated beyond a certain flight-cycle implementation time unless operator specifications are issued to reference repair assessment guidelines for the fuselage pressure boundary (fuselage skin, door skin, and bulkhead webs) and those guidelines are incorporated into the operator's maintenance program. The final rule also specifies that these repair assessment guidelines must be approved by the FAA's Aircraft Certification Office or the office of the Transport Airplane Directorate having cognizance over the type certificate for the affected airplane.

For Airbus Model A300 B2 and B4 series airplanes, the implementation times specified in the final rule are as follows:

Airplane model | Implementation times
A300 B2 | 36,000 total flight cycles.
A300 B4-100 and B4-2C | 30,000 total flight cycles (above the window line); 36,000 total flight cycles (below the window line).
A300 B2-200 | 25,500 total flight cycles (above the window line); 36,000 total flight cycles (below the window line).

The service bulletin described previously recommends that certain repairs must be inspected for fatigue damage before the implementation times specified in the regulation described above. The initial implementation time recommended in the service bulletin and specified in French airworthiness directive 2000-261-312(B) is before accumulating 10,000 total flights or within 2,500 flights, whichever occurs later. An interval of 2,500 flights is specified for repetitive inspections of specified areas and corrective actions. The service bulletin was issued in response to a finding of a specific repair for which fatigue and damage tolerance is a concern. This specific repair involves a skin doubler with an average rivet spacing greater than or equal to 30 mm in the outer rivet row. The repair is located in the upper part of the fuselage in the pressurized shell.

Since the compliance time described above, as specified in the French airworthiness directive, for identification of this particular repair is earlier than the implementation times specified in the repair assessment guidelines, the FAA finds that issuance of this proposed AD is necessary to require the specified actions at the earlier time.

Cost Impact

The FAA estimates that 13 airplanes of U.S. registry would be affected by this proposed AD, that it would take approximately 2 work hours per airplane to accomplish the proposed actions, and that the average labor rate is $60 per work hour. Based on these figures, the cost impact of the proposed AD on U.S. operators is estimated to be $1,560, or $120 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-247-AD.

Applicability: All Model B2 and B4 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct fatigue cracking of certain repairs of the fuselage between frame 10 and frame 80, which could result in reduced structural integrity of the airplane, accomplish the following:

Identification of Repairs

(a) Before 10,000 total landings, or before 2,500 landings after the effective date of this AD, whichever occurs later: Identify the types and areas of repairs on the airplane between frame 10 and frame 80, as specified in Airbus Service Bulletin A300-53-0313, Revision 01, dated April 27, 1999. Do the actions per the Accomplishment Instructions of the service bulletin. If none of the repairs specified in the service bulletin are found, no additional action is needed under this AD.

Follow-On Actions

(b) If, during the inspection, any repair is found that meets the criteria specified in Airbus Service Bulletin A300-53-0313, Revision 01, dated April 27, 1999: Do either an eddy current or ultrasonic inspection, depending on the type of repair found, to detect cracking of the applicable area identified in Flow Chart 1, Figure 1, Sheet 1, of the service bulletin. Do the inspection at the time and in the manner specified in the service bulletin. Based on the results of the inspection, take the actions shown in the following table:

Table 1.—Follow-On Actions
If the following is found: | Then— | Per this schedule:
(1) No cracking | Repeat the inspection | At least every 2,500 landings.
(2) Any cracking | Replace the repair per a method approved by either the Manager, International Branch, ANM-116, FAA, Transport Airplane Directorate, or the Direction Générale de l'Aviation Civile (DGAC) (or its delegated agent) | Before further flight.

Terminating Action

(c) Replacement of a repair that is specified in Airbus Service Bulletin A300-53-0313, Revision 01, dated April 27, 1999, per a method approved by either the Manager, International Branch, ANM-116, or the DGAC (or its delegated agent), terminates the requirements of this AD.

Alternative Methods of Compliance

(d) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 3: The subject of this AD is addressed in French airworthiness directive 2000-261-312(B), dated June 28, 2000.

Issued in Renton, Washington, on August 21, 2001.
Ali Bahrami,
Acting Manager, Transport Airplane Directorate, Aircraft Certification Service.

[FR Doc. 01-21632 Filed 8-27-01; 8:45 am]

BILLING CODE 4910-13-U